DEPARTMENT OF HEALTH AND HUMAN SERVICES

Office of the Secretary; Office of the Assistant Secretary for Preparedness and Response; Statement of Organization, Functions, and Delegations of Authority

Part A, Office of the Secretary, Statement of Organization, Functions, and Delegations of Authority of the Department of Health and Human Services (HHS) is being amended at Chapter AN, Office of the Assistant Secretary for Preparedness and Response (ASPR), as last amended at 78 FR 7784, dated February 4, 2013, and at 75 FR 35035-35038, dated June 21, 2010. This organizational change is to rename the Office of Preparedness and Emergency Operations (ANC), establish five Divisions under the Office of Preparedness and Emergency Operations (ANC), and rename one existing Division. The changes are as follows.

I. Under Part A, Chapter AN, Section AN.10, Organization, rename “Office of Preparedness and Emergency Operations” to “Office of Emergency Management.”

II. Under Part A, Chapter AN, Section AN.20, Functions, Paragraph C, Office of Preparedness and Emergency Operations (ANC):

a. Replace all references to the “Office of Preparedness and Emergency Operations” and “OPEO” with the “Office of Emergency Management” and “OEM,” respectively.

b. Rename “Division of Mass Care (ANC1)” as “Division of National Hospital Preparedness (ANC1).”

c. At the end of Paragraph C, add the following sub-components:

• Division of Recovery (ANC7)

• Division of Regional Emergency Coordinators (ANC8)

• Division of Logistics (ANC9)

• Division of Fusion (ANCA)

• Division of Tactical Programs (ANC5)

II. Delegations of Authority. All delegations and redelegations of authority made to officials and employees of affected organizational components will continue in them or their successors pending further redelegation, provided they are consistent with this reorganization.

Dated: April 12, 2013.
E.J. Holland, Jr.,
Assistant Secretary for Administration.

[FR Doc. 2013-10056 Filed 4-29-13; 8:45 am]

BILLING CODE 4150-37-P